LIBRARY OF CONGRESS

Copyright Office

37 CFR Parts 201 and 256

[Docket No. 2000-4 CARP CRA]

Adjustment of Cable Statutory License Royalty Rates

AGENCY: Copyright Office, Library of Congress.

ACTION: Final rule.

SUMMARY: The Copyright Office of the Library of Congress is publishing final regulations governing the adjustment of the royalty rates for the cable statutory license.

DATES: These regulations are effective July 1, 2000.

FOR FURTHER INFORMATION CONTACT: David O. Carson, General Counsel, or William J. Roberts, Jr., Senior Attorney for Compulsory Licenses, Copyright Arbitration Royalty Panel (CARP), P.O. Box 70977, Southwest Station, Washington, D.C. 20024. Telephone: (202) 707-8380. Telefax (202) 252-3423.

SUPPLEMENTARY INFORMATION:

I. Background

Section 111 of the Copyright Act, 17 U.S.C., creates a statutory license for cable systems that retransmit to their subscribers over-the-air broadcast signals. Royalty fees for this license are calculated as percentages of a cable system's gross receipts received from subscribers for receipt of broadcast signals. A cable system's individual gross receipts determine the applicable percentages. These percentages, and the gross receipts limitations, are published in 37 CFR part 256 and are subject to adjustment at five-year intervals. 17 U.S.C. 801(b)(2)(A) & (D). This was a window year for such an adjustment.

The Library received two petitions for a rate adjustment and published a Federal Register notice seeking comment on these petitions and directed interested parties to file a Notice of Intent to Participate in a Copyright Arbitration Royalty Panel (“CARP”) proceeding. 65 FR 10564 (February 28, 2000). The Library also designated a 30-day period to negotiate a settlement as to adjustment of the rates. 37 CFR 251.63(a). The Library extended the negotiation period on two separate occasions in Orders dated May 15, 2000, and June 5, 2000. The extensions proved to be successful, as the Library received a joint proposal to adjust the cable royalty fees and the gross receipts limitations.

Pursuant to § 251.63(b) of the CARP rules, the Library published in the Federal Register the proposed adjustments to the percentages of gross receipts paid by cable systems, and the gross receipts limitations. 65 FR 54984 (September 12, 2000). Section 251.63(b) provides that the Library “may adopt the rate embodied in the proposed settlement without convening an arbitration panel, provided that no opposing comment is received by the Librarian [of Congress] from a party with an intent to participate in a CARP proceeding.” 37 CFR 251.63(b). No comments or Notices of Intent to Participate were received, enabling publication of today's final regulations adopting the proposed settlement.

The regulations take effect on July 1, 2000, which means that the new cable rates, and the gross receipts limitations, are applicable to the second accounting period of 2000 and thereafter.

List of Subjects

37 CFR Part 201

Copyright, Procedures.

37 CFR Part 256

Cable television, Royalties.

For the reasons set forth in the preamble, the Library amends 37 CFR parts 201 and 256 as follows:

PART 201—GENERAL PROVISIONS

1. The authority citation for part 201 continues to read as follows:

Authority: 17 U.S.C. 702.

§ 201.17 [Amended]

2. In § 201.17:

a. In paragraph (d)(2), remove “$292,000” each place it appears and add “$379,600” in its place.

b. In paragraph (e)(12), remove “$75,800” and add “$98,600” in its place.

c. In paragraph (g)(2)(ii), remove “.893” and add “.956” in its place.

PART 256—ADJUSTMENT OF ROYALTY FEE FOR CABLE COMPULSORY LICENSE

3. The authority citation for part 256 continues to read as follows:

Authority: 17 U.S.C. 702, 802.

§ 256.2 [Amended]

4. In § 256.2:

a. In paragraph (a), introductory text, remove the phrase “the first semiannual accounting period of 1985” and add the phrase “the second semiannual accounting period of 2000” in its place.

b. In paragraph (a)(1), remove “.893” and add “.956” in its place.

c. In paragraph (a)(2), remove “.893” and add “.956” in its place.

d. In paragraph (a)(3), remove “.563” and add “.630” in its place.

e. In paragraph (a)(4), remove “.265” and add “.296” in its place.

f. In paragraph (b), introductory text, remove the phrase “the first semiannual accounting period of 1985” and add the phrase “the second semiannual accounting period of 2000” in its place.

g. In paragraph (b)(1), remove “$146,000” each place it appears and add “$189,800” in its place, and remove “$5,600” and add “$7,400” in its place.

h. In paragraph (b)(2), remove “$146,000” each place it appears, and add “$189,800” in its place, and remove “$292,000” each place it appears and add “$379,600” in its place.

Dated: October 20, 2000.
Marybeth Peters,
Register of Copyrights.
Approved by:
James H. Billington,
The Librarian of Congress.

[FR Doc. 00-27713 Filed 10-27-00; 8:45 am]

BILLING CODE 1410-33-P